DEPARTMENT OF THE INTERIOR

National Indian Gaming Commission

Notice of Tribal Consultations; Schedule Update

AGENCY: National Indian Gaming Commission, Department of Interior.

ACTION: Notice of tribal consultations; schedule update.

Authority: E.O. 13175.

SUMMARY: On November 18, 2010, the National Indian Gaming Commission (NIGC) published a Notice of Inquiry and Notice of Consultation, 75 FR 70680. The Commission announced to the public a comprehensive review of all its regulations, sought responses to many general and specific questions about its regulations, and announced a schedule of eight consultation sessions to take place during January and February 2011. This notice announces a minor change to that schedule. Should any further changes to the consultation schedule be necessary, the Commission will announce them in the Federal Register and on its Web site, http://www.nigc.gov.

DATES: See SUPPLEMENTARY INFORMATION below for the updated and revised dates, times, and locations of consultation meetings.

FOR FURTHER INFORMATION CONTACT: Lael Echo-Hawk, National Indian Gaming Commission, 1441 L Street, NW., Suite 9100, Washington, DC 20005. Telephone: 202/632-7009; e-mail: reg.review@nigc.gov.

SUPPLEMENTARY INFORMATION: The Commission will hold eight tribal consultations on the following dates, at the following times, and in the following locations. Every attempt was made to hold a consultation in each region and to coordinate with other established meetings when establishing this consultation schedule.

Week 1

January 11, 2011, from 9 a.m. to 4 p.m. at the U.S. Grant Hotel, 326 Broadway, San Diego, CA 92101.

January 12, 2011, from 9 a.m. to 4 p.m. at the Cache Creek Casino Resort, 14455 Highway 16, Brooks, CA 95606.

January 14, 2011, from 9 a.m. to 4 p.m. at the Little Creek Resort, 91 W. State Route 108, Shelton, WA 98584.

Week 2

January 18, 2011, from 9 a.m. to 4 p.m. at the Riverwind Casino—Hotel, 1544 West Highway 9, Norman, OK 73072.

January 20, 2011, from 9 a.m. to 4 p.m. at the Hyatt Regency Tamaya Resort and Spa, 1300 Tuyuna Trail, Santa Ana Pueblo, NM 87004.

Week 3

January 24, 2011, from 9 a.m. to 4 p.m. at the Department of the Interior—South Interior Auditorium, 1951 Constitution Ave., NW., Washington, DC 20240.

Week 4

February 1, 2011, from 9 a.m. to 4 p.m. at the Best Western Ramkota Inn, 2111 North La Crosse St., Rapid City, SD 57701.

February 3, 2011, from 9 a.m. to 4 p.m. at the Seminole Hard Rock Hotel & Casino, 1 Seminole Way, Hollywood, FL 33314.

This new schedule represents only one change from the previous schedule. The Commission swapped the date, time, and location of the two consultation sessions scheduled for week 2.

For additional information on consultation locations and times, please refer to the Web site of the National Indian Gaming Commission, http://www.nigc.gov. Please RSVP at consultation.rsvp@nigc.gov.

Dated: November 19, 2010.
Tracie L. Stevens,
Chairwoman.
Steffani A. Cochran,
Vice-Chairwoman.
Daniel J. Little,
Associate Commissioner.

[FR Doc. 2010-29701 Filed 11-24-10; 8:45 am]

BILLING CODE 7565-01-P